ENVIRONMENTAL PROTECTION AGENCY

[EPA-HQ-OAR-2013-0118; FRL-11706-01-OMS]

Agency Information Collection Activities; Submission to the Office of Management and Budget for Review and Approval; Comment Request; Control of Evaporative Emissions From New and In-Use Portable Gasoline Containers (Renewal)

AGENCY: Environmental Protection Agency (EPA).

ACTION: Notice.

SUMMARY: The Environmental Protection Agency (EPA) has submitted an information collection request (ICR), Control of Evaporative Emissions from New and In-Use Portable Gasoline Containers (Renewal), (EPA ICR Number 2213.07, OMB Control Number 2060-0597) to the Office of Management and Budget (OMB) for review and approval in accordance with the Paperwork Reduction Act. This notice is a proposed extension of the ICR, which is currently approved through January 31, 2024. Public comments were previously requested via the Federal Register on November 3, 2023, during a 60-day comment period. This notice allows for an additional 30 days for public comments.

DATES: Comments must be submitted on or before February 28, 2024.

ADDRESSES: Submit your comments, referencing the Docket ID No. EPA-HQ-OAR-2013-0118, to the EPA: online using www.regulations.gov (our preferred method), or by mail to: EPA Docket Center, Environmental Protection Agency, Mail Code 28221T, 1200 Pennsylvania Ave. NW, Washington, DC 20460.

EPA's policy is that all comments received will be included in the public docket without change including any personal information provided, unless the comment includes profanity, threats, information claimed to be Confidential Business Information (CBI) or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Philip Carlson, Compliance Division, Office of Transportation and Air Quality, U.S. Environmental Protection Agency, 2000 Traverwood, Ann Arbor, Michigan 48105; telephone number: 734-214-4270; fax number 734-214-4869; email address: Carlson.Philip@epa.gov.

SUPPLEMENTARY INFORMATION: This is a proposed extension of the ICR, which is currently approved through January 31, 2024. An agency may not conduct or sponsor and a person is not required to respond to a collection of information unless it displays a currently valid OMB control number.

Public comments were previously requested via the Federal Register on November 3, 2023 during a 60-day comment period (88 FR 75589). This notice allows for an additional 30 days for public comments. Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: EPA is required under Section 183(e) of the Clean Air Act to regulate Volatile Organic Compound (VOC) emissions from the use of consumer and commercial products. Under regulations promulgated on February 26, 2007 (72 FR 8428) manufacturers of new portable gasoline containers are required to obtain certificates of conformity with the Clean Air Act, effective January 1, 2009. This ICR covers the burdens associated with this certification process. EPA reviews information submitted in a manufacturer's application for certification to determine if the gasoline container design conforms to applicable regulatory requirements and to verify that the required testing has been performed. The certificate holder is required to keep records on the testing and collect and keep warranty and defect information for annual reporting on in-use performance of their products. The respondent must also retain records on the units produced, apply serial numbers to individual containers, and track the serial numbers to their certificates of conformity. Any information submitted for which a claim of confidentiality is made is safeguarded according to EPA regulations at 40 CFR 2.201 et seq.

Form Numbers: None.

Respondents/affected entities: Manufacturers of new portable gasoline containers from 0.25 to 10.0 gallons in capacity.

Respondent's obligation to respond: Mandatory (40 CFR part 59, subpart F).

Estimated number of respondents: 9 (total).

Frequency of response: Yearly for warranty reports; at least once every five years for certification and certificate renewals.

Total estimated burden: 165 hours (per year). Burden is defined at 5 CFR 1320.3(b).

Total estimated cost: $ 29,855.51 (per year), which includes $ 21,613.67 annualized capital and operation & maintenance costs.

Changes in Estimates: The program is now mature and startup costs have largely already been incurred. One successful warranty violation report has been received on an annual basis, as reported above, so warranty report applications are expected to be less time-consuming. The number of manufacturers certifying PFC's is nine (9) and we do not anticipate an increase in new entrants. The increase in anticipated costs is due to the adjustment in the expected testing burden. We have increased the anticipated cost of contracting a PFC emission test to reflect the estimated current market rate. There is an overall decrease in burden hours, which is an adjustment to correct the previous ICR which had incorrectly included some of the O&M costs in the hour burden.

Courtney Kerwin,
Director, Regulatory Support Division.

[FR Doc. 2024-01674 Filed 1-26-24; 8:45 am]

BILLING CODE 6560-50-P